SECURITIES AND EXCHANGE COMMISSION

[Release No. 34-34-103514; File No. 600-44]

CME Securities Clearing, Inc.; Notice of Designation of a Longer Period for Commission Action on Proceedings To Determine Whether To Grant or Deny an Application for Registration as a Clearing Agency Under Section 17A of the Securities Exchange Act of 1934

July 21, 2025.

On December 13, 2024, CME Securities Clearing, Inc. (“CMESC”) filed with the Securities and Exchange Commission (“Commission”) an application on Form CA-1 (“Application”) under Section 17A of the Securities Exchange Act of 1934 (“Exchange Act”) seeking to register as a clearing agency.¹ Notice of the Application was published for comment in the Federal Register on January 22, 2025 (“Notice”),² and the Commission received comment letters in response.³ On April 18, 2025, the Commission issued an order instituting proceedings to determine whether to grant or deny the Application (“OIP”),⁴ and the Commission received additional comment letters, including letters from CMESC.

¹ 15 U.S.C. 78q-1. Non-confidential aspects of the Application, including any exhibits thereto cited in this order, are available on the Commission's website at https://www.sec.gov/rules-regulations/other-commission-orders-notices-information/cme-form-ca-1.

² Release No. 34-102200 (Jan. 15, 2025), 90 FR 7713 (Jan. 22, 2025).

³ The public comment file for the Application is available on the Commission's website at: https://www.sec.gov/comments/600-44/600-44.htm.

⁴ Release No. 34-102889 (Apr. 18, 2025), 90 FR 17269 (Apr. 24, 2025).

Section 19(a)(1)(B) of the Exchange Act provides that proceedings instituted to determine whether to deny an application for registration as a clearing agency shall be concluded within 180 days of the date of a publication of notice of the filing of the application for registration.⁵ At the conclusion of such proceedings, the Commission, by order, shall grant or deny such registration.⁶ The Commission may extend the time for conclusion of such proceedings for up to 90 days if it finds good cause for such extension and publishes its reasons for so finding.⁷ The Notice was published for comment in the Federal Register on January 22, 2025.⁸ The 180th day after publication of the Notice is July 21, 2025. The Commission is extending the time for granting or denying CMESC's Application for registration as a clearing agency for an additional 90 days.

⁵ 15 U.S.C. 78s(a)(1)(B).

⁶ Id.

⁷ Id.

⁸ See supra note 2.

The Commission finds good cause for extending the period for granting or denying CMESC's Application because the extension will provide additional time for the Commission to assess whether the Application satisfies the requirements of Section 17A of the Exchange Act and the rules and regulations thereunder for clearing agencies. In the OIP, the Commission sought comment regarding the Application's consistency with Section 17A(b)(3) of the Exchange Act. In addition, as described in the OIP, CMESC proposes a novel structure with two types of participants, Members and Users.⁹ This novel structure affects the way in which CMESC conducts risk management, including its system for margin collection, risk surveillance, and the rules pursuant to which CMESC would manage the default of multiple participants, including both Members and Users.¹⁰ Therefore, the Commission believes there is good cause to extend the time for conclusion of the proceedings for 90 days.

⁹ 90 FR at 17272.

¹⁰ Id.

Accordingly, pursuant to Section 19(a)(1)(B) of the Exchange Act,¹¹ the Commission designates October 19, 2025, as the date by which the Commission shall either grant or deny CMESC's Application.

¹¹ 15 U.S.C. 78s(a)(1)(B).

By the Commission.
Vanessa A. Countryman,
Secretary.

[FR Doc. 2025-13917 Filed 7-23-25; 8:45 am]

BILLING CODE 8011-01-P